POSTAL SERVICE

39 CFR Part 111

Change in Administrative Charges for Refunds of Unused Meter Stamps and Returned Business Reply Mail Mailpieces With Postage Affixed

AGENCY: Postal Service.

ACTION: Proposed rule.

SUMMARY: The Postal Service proposes to revise the Domestic Mail Manual (DMM) to increase the administrative charges for processing refunds for unused meter stamps and business reply mail (BRM) pieces returned with postage affixed. These charges have not been increased for the past 20 years, and are updated to reflect the current hourly cost for processing the refunds. This proposed rule also splits the discussion of refunds for unused metered postage and refunds for PC Postage indicia into separate sections.

DATES: Comments must be received on or before November 14, 2002.

ADDRESSES: Written comments should be mailed or delivered to Manager, Mail Preparation and Standards, Postal Service, 1735 N. Lynn St., Arlington, VA 22209-6038. Copies of all written comments will be available for inspection and photocopying between 9 a.m. and 4 p.m., Monday through Friday, in the Library, Postal Service Headquarters, 475 L'Enfant Plaza, SW., Washington, DC 20260-1540.

FOR FURTHER INFORMATION CONTACT: Patricia Bennett (703) 292-3639 or Sam Koroma (703) 292-3990.

SUPPLEMENTARY INFORMATION:

Background

The Postal Service has provisions in place to process refunds for unused metered postage, as well as for postage affixed to returned business reply mail (BRM) pieces. To cover the costs of the Postal Service labor used to process such requests for refunds, the Postal Service reduces the amount of the refund by an administrative charge. The current charges reflect old labor costs, which have not been updated for more than 20 years. The proposed amendments would update the charges to better reflect current hourly labor costs (including benefits).

For metered postage refunds, the current charge is calculated as 10 percent of the face value of the indicia, if that value is $250 or less. If the face value of the indicia is more than $250, the current charge is $10 per hour, with a minimum charge of $25. The proposed amendment would charge 10 percent for values up to $350. For values above $350, the charge is $35 per hour, with a minimum of $35. Thus, there would be no change in the charge for indicia values up to $250, an increase from $25 to 10 percent of the face value for values between $250 and $350, and an increase in the minimum charge from $25 to $35 for greater indicia values. When more than one hour of processing time is needed, the increase will vary depending on the time required.

For BRM pieces with affixed postage, the current administrative charge is $15 per hour. The proposed amendment would increase that charge to $35 per hour, reflecting current labor costs for processing the refund request.

While the amended charges would increase customer costs for obtaining a refund, the increases are needed so that the Postal Service can cover the costs of providing the refund.

The separate treatment of unused metered indicia printed by PC Postage products reflects the different refund procedures for this type of postage.

Although exempt from the notice and comment requirements of the Administrative Procedure Act (5 U.S.C. of 533 (b), (c) regarding proposed rulemaking by 39 U.S.C. 410(a)), the Postal Service invites public comment of the following proposed revisions to the Domestic Mail Manual, incorporated by reference in the Code of Federal Regulations. See 39 CR 111.1.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 416, 3001-3011, 3201 3219, 3403-3406, 3621, 3626, 5001.

2. Amend the Domestic Mail Manual (DMM) as set forth below:

Domestic Mail Manual (DMM)

* * * * *

P Postage and Payment Methods

* * * * *

P000 Basic Information

P010 General Standards

* * * * *

P014 Refunds and Exchanges

* * * * *

2.0 POSTAGE AND FEES REFUNDS

* * * * *

[Revise title and text to read as follows:]

2.5 Refunds for Metered Postage, Except for PC Postage Indicia

A refund for complete, legible, and valid unused indicia printed on unmailed envelopes, wrappers, or labels is made under 3.2. The request is submitted as follows:

a. Only the meter licensee may request the refund.

b. The licensee must submit the refund request within 60 days from the dates shown in the indicia.

c. The licensee must submit the request, along with the items bearing the unused postage, to the licensing post office. The request is processed by the Postal Service.

d. Charges for processing a refund request are as follows:

(1) If the total face value of the indicia is $350 or less, the Postal Service charges 10% of the face value.

(2) If the total face value is more than $350, the Postal Service charges $35 per hour, or fraction thereof, for the actual hours to process the refund, with a minimum charge of $35.

[Renumber current 2.6 through 2.11 as new 2.7 through 2.12, respectively.]

[Add new 2.6 to read as follows:]

2.6 Refunds for PC Postage

A refund for complete, legible, and valid unused PC Postage indicia printed on unmailed envelopes, wrappers, or labels is made under 3.2. The request is submitted as follows:

a. Only the PC Postage licensee may request the refund.

b. The licensee must submit the refund request within 30 days from the dates shown in the indicia.

c. The licensee must submit the request, along with the items bearing the unused postage, to the system provider. The request is processed by the provider, not the Postal Service. The provider may charge for processing refund requests.

d. The provider may charge for processing refund requests.

* * * * *

2.12 Business Reply Mail

[Revise new 2.12 by replacing “$15” with “$35” to read as follows:]

* * * A charge of $35 per hour, or fraction thereof, is assessed for the workhours used to process the refund.* * *

* * * * *

We will publish an appropriate amendment to 39 CFR 111.3 to reflect these changes if the proposal is adopted.

Stanley F. Mires,
Chief Counsel, Legislative.

[FR Doc. 02-26161 Filed 10-11-02; 8:45 am]

BILLING CODE 7710-12-P